DEPARTMENT OF ENERGY

Federal Energy Regulatory Commission

[Docket No. RP00-336-002]

El Paso Natural Gas Company; Notice of Compliance Filing

April 3, 2001.

Take notice that on March 28, 2001, El Paso Natural Gas Company (El Paso) tendered a proposal that addresses capacity allocation issues on its system in accordance with ordering paragraph (d) of the Federal Energy Regulatory Commission's order issued February 26, 2001 at Docket No. RP99-507-004, et al.

Any person desiring to protest said filing should file a protest with the Federal Energy Regulatory Commission, 888 First Street, N.E., Washington, D.C. 20426, in accordance with Section 385.211 of the Commission's Rules and Regulations. All such protests must be filed on or before April 10, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-8588 Filed 4-6-01; 8:45 am]

BILLING CODE 6717-01-M